DEPARTMENT OF COMMERCE

Foreign-Trade Zones Board

[B-78-2016]

Foreign-Trade Zone 115—Beaumont, Texas; Expansion of Subzone 115B; ExxonMobil Oil Corporation; Jefferson and Liberty Counties, Texas

An application has been submitted to the Foreign-Trade Zones (FTZ) Board by the Foreign-Trade Zone of Southeast Texas, Inc., grantee of FTZ 115, requesting an expansion of Subzone 115B on behalf of ExxonMobil Oil Corporation to include an additional site in Jefferson County, Texas. The application was submitted pursuant to the provisions of the Foreign-Trade Zones Act, as amended (19 U.S.C. 81a-81u), and the regulations of the FTZ Board (15 CFR part 400). It was formally docketed on November 15, 2016.

Subzone 115B was approved on October 13, 1995 (Board Order 780, 60 FR 54471-54472, October 24, 1995). The subzone (2,566 acres) currently consists of six sites located in Jefferson and Liberty Counties: Site 1 (2,200 acres)—main refinery and petrochemical feedstock complex located along the Neches River at end of Burt Road in Jefferson County; Site 2 (51 acres)—Mobil Colonial Tank Farm located at 13300 West Port Arthur Road in Jefferson County; Site 3 (24 acres)—Mobil Hull underground storage facility located northwest of the refinery at end of Mobil Road in the City of Hull (Liberty County); Site 4 (188 acres)—Daisetta underground petrochemical storage facility located northwest of the refinery at end of Bobcat Lane in the City of Daisetta (Liberty County); Site 6 (38 acres)—Unocal Terminal located at State Highway 366 in Nederland (Jefferson County); and, Site 7 (65 acres)—Sunoco Marine Terminal located at State Highway 347 in Nederland. (Site 5 expired in January 2000.)

The applicant is requesting authority to expand the subzone to include an additional site: Proposed Site 8 (27.5 acres)—3275 Amoco Road EXN, Beaumont (Jefferson County). No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is January 3, 2017. Rebuttal comments in response to material submitted during the foregoing period may be submitted during the subsequent 15-day period to January 17, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: November 15, 2016.
Andrew McGilvray,
Executive Secretary.

[FR Doc. 2016-28108 Filed 11-21-16; 8:45 am]

BILLING CODE 3510-DS-P